DEPARTMENT OF THE INTERIOR

National Park Service

Joshua Tree National Park, CA: Boundary Revision To Include Certain Adjacent Real Property

Pursuant to the authority contained in the Act of September 3, 1964 (Pub. L. 88-578, 78 Stat. 27), “The Land and Water Conservation Fund Act of 1965,” as amended (16 U.S.C. 460l-9(c)(1)(ii)), notice is hereby given that the boundary of Joshua Tree National Park is modified to include approximately 70 acres of real property adjacent to the park's prior boundary. This adjustment is accomplished to include two pieces of private property which the owners have desired to donate to the United States for the use of Joshua Tree National Park, as well as contiguous acreage which the Bureau of Land Management has identified as excess to its needs. The properties are described below:

Tract 1

Parcel 1: The Southwest ¼ of the Southeast ¼ of the Southwest ¼ of Section 34, Township 1 North Range 8 East, San Bernardino Meridian, in the County of San Bernardino, State of California, according to the Official Plat thereof.

Parcel 2: The South ½ of the Northeast ¼ of the Southeast ¼ of the Southwest ¼ of Section 34, Township 1 North Range 8 East, San Bernardino Meridian, in the County of San Bernardino, State of California, according to the Official Plat thereof.

Parcel 3: The West ½ of the North ½ of the Southeast ¼ of the Southwest ¼ of Section 34, Township 1 North, Range 8 East, San Bernardino Meridian, in the County of San Bernardino, State of California, according to the Official Plat thereof.

Parcel 4: The Southeast ¼ of the Southeast ¼ of the Southwest ¼ of Section 34, Township 1 North, Range 8 East, San Bernardino Meridian, in the County of San Bernardino, State of California, according to the Official Plat thereof.

Tract 2

Lots 26, 27, 28, 33 and 34 in Section 34, Township 1 North, Range 8 East, San Bernardino Meridian, according to the Official Plat thereof.

Tract 3

Parcel 1: The North Half of the Southeast Quarter of the Southeast Quarter of the Southeast Quarter of Section 14, Township 1 South, Range 6 East, San Bernardino Meridian, in the County of San Bernardino, State of California, according to the Official Plat thereof.

Parcel 2: The South Half of the Southeast Quarter of the Southeast Quarter of the Southeast Quarter of Section 14, Township 1 South, Range 6 East, San Bernardino Meridian, in the County of San Bernardino, State of California, according to the Official Plat thereof.

These revisions in the park boundary are depicted on Drawing No. 156/80,049, Sheet 1 of 1, dated April 1, 2003. This map is on file and available for inspection, and further information regarding this boundary change is available, at the following addresses:

Director, National Park Service, Department of the Interior, Washington, DC 20240;

Regional Director, Pacific West Region, National Park Service, 1111 Jackson St., Ste. 700, Oakland, CA 94607;

Superintendent, Joshua Tree National Park, 74485 National Park Drive, Twentynine Palms, CA 92277.

Dated: April 24, 2003.
Jonathan B. Jarvis,
Regional Director, Pacific West Region.

[FR Doc. 03-21968 Filed 8-27-03; 8:45 am]

BILLING CODE 4310-EK-M